FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Accurate Cargo Services (NVO), 141 South 2nd Street, Montebello, CA 91640. Officer: Stephanie L. Kong, President/Secretary/Treasurer (Qualifying Individual). Application Type: New NVO License.

Alomar Transport, Inc. (NVO & OFF), 150-30 132nd Avenue, Suite 303, Jamaica, NY 11434. Officers: Patricia A. Lally, President (Qualifying Individual), Allaix Augustin, Secretary. Application Type: QI Change.

Enter To USA LLC (NVO & OFF), 1553 NW 82nd Avenue, Miami, FL 33126. Officers: Melissa O. Meier, Manager (Qualifying Individual), Julio A. Aniat, Manager. Application Type: New NVO & OFF License.

Forward System Logistics Inc. (NVO), 144-54 156th Street, Jamaica, NY 11434. Officers: Victor Leung, Secretary (Qualifying Individual), Jerry Lo, President/Treasurer. Application Type: QI Change.

G J Cargo Corp (NVO & OFF), 2000 NW 84 Avenue, #228, Miami, FL 33122. Officers: Carolina R. Jaramillo Saad, Vice President/Secretary (Qualifying Individual), German Jaramillo, President. Application Type: New NVO & OFF License.

Global Freight Express, L.L.C. (NVO), 8417 NW 68 Street, Miami, FL 33166. Officers: Isidro A. Castro, Manager (Qualifying Individual), Roza M. Castro, Manager. Application Type: New NVO License.

Green Line Shipping & Logistics Services Inc. (NVO & OFF), 16230 Lake View Lane, Apple Valley, CA 92307. Officer: Monwar Hussain, President (Qualifying Individual). Application Type: Name Change/Add NVO Service.

Investment Logistic Solution Corp (NVO & OFF), 6701 NW. 7th Street, #135, Miami, FL 33126. Officers: Maria E. Arias, Vice President (Qualifying Individual), Enid Gonzalez, President/Acting Secretary. Application Type: New NVO & OFF License.

I.T. Freight Corporation (NVO & OFF), 1970 NW 129 Avenue, Suite 105, Miami, FL 33182. Officers: Nicolas I. Cassis, Secretary (Qualifying Individual), Jorge Zambrano, President/Treasurer. Application Type: New NVO & OFF License.

Kamino International Transport, Inc. dba Kamino Ocean (NVO & OFF), 145th Avenue & Hook Creek Blvd., Valley Stream, NY 11581. Officers: Jeffrey Hudson, Vice President of Operations (Qualifying Individual), Robert Snelson, CEO/Director. Application Type: QI Change.

Kin Services, Inc. (OFF), 2027 Winwright Court, Palatine, IL 60074. Officers: Majetete Balanganayi, President (Qualifying Individual), Ngalula I. Balanganayi, Secretary. Application Type: New OFF License.

Linear Shipping, Inc. (NVO & OFF), 5919 Ridgeway Drive, Grand Prairie, TX 75052. Officer: Syed S. Rabi-ul-Hassan, President/Secretary/Treasurer (Qualifying Individual). Application Type: License Transfer.

Nunez Shipping Inc (NVO), 1388 NW 29th Street, Miami, FL 33142. Officers: Emigdio O. Nunez, Vice President (Qualifying Individual), Osvaldo Nunez, President. Application Type: New NVO License.

Priority Air Express, LLC dba Priority Marine Express dba Priority Solutions International (NVO & OFF), 11 Technology Drive, Suite A, Swedesboro, NJ 08085. Officers: Irina Freidel, Vice President (Qualifying Individual), William Ciminello, Director/President. Application Type: QI Change.

Seafair USA, LLC. (NVO & OFF), 10813 NW 30 Street, Miami, FL 33172. Officers: Claudio R. Lopez, Managing Member (Qualifying Individual), Peter Doeschner, Member. Application Type: New NVO & OFF License.

Tazmanian Freight Forwarding, Inc. (NVO & OFF), 4949 Old Grayton Road, Cleveland, OH 44135. Officers: Jeffrey W. Schumacher, Vice President of International (Qualifying Individual), Robert D. Rossbach, Chief Executive Officer. Application Type: New NVO & OFF License.

Tecnoship Group, Corp. (NVO), 8233 NW 68 Street, Miami, FL 33166. Officers: Karla S. Guevara, Director (Qualifying Individual), Jose F. Rodriguez, President. Application Type: New NVO License.

Yes Logistics Corporation (NVO & OFF), 3675 E. Huntington Drive, Suite 210, Pasadena, CA 91107. Officers: John S. Hsi, Assistant Vice President, Frank Chao, Director/President (Qualifying Individual). Application Type: QI Change.

Dated: November 4, 2011.
Karen V. Gregory,
Secretary.

[FR Doc. 2011-29086 Filed 11-9-11; 8:45 am]

BILLING CODE 6730-01-P